GENERAL SERVICES ADMINISTRATION

[Notice MVAC-2022-01; Docket No. 2022-0002; Sequence No. 23]

Notice of Request for Information on Photovoltaic Systems

AGENCY: Office of Acquisition Policy, General Services Administration (GSA).

ACTION: Notice; request for information (RFI).

SUMMARY: The General Services Administration (GSA) is seeking information from industry on the availability of domestically manufactured solar photovoltaic (PV) panels and components and feasibility of requiring the use of such PV panels and components for future projects.

DATES: Interested parties should submit comments to the address shown below on or before November 18, 2022.

ADDRESSES: Comments to the RFI must be provided in writing. Interested parties are to submit their written comments electronically to https://www.regulations.gov. Submit comments via the Federal eRulemaking portal by searching for “RFI Photovoltaic Systems”. Select the link “Comment Now” that corresponds with the RFI and follow the instructions provided on the screen. Please include your name, company name (if any), and “RFI Photovoltaic Systems” on your attached document. If your comment cannot be submitted using https://www.regulations.gov, call or email the points of contact in the FOR FURTHER INFORMATION CONTACT section of this document for alternate instructions.

You are not required to answer all of the questions in the RFI, but the more information we receive, the better GSA's understanding of the domestically manufactured solar panel and/or components market.

Comments received generally will be posted without change to https://www.regulations.gov, including any personal and/or business confidential information provided. To confirm receipt of your comment(s), please check https://www.regulations.gov approximately two-to-three days after submission to verify posting.

FOR FURTHER INFORMATION CONTACT: Ms. Adina Torberntsson, Procurement Analyst, at gsarpolicy@gsa.gov, for clarification of content. For information pertaining to status or publication schedules, contact the Regulatory Secretariat at 202-501-4755 or gsaregsec@gsa.gov. Please cite RFI Photovoltaic Systems.

SUPPLEMENTARY INFORMATION:

Purpose

To obtain relevant information from domestic commercial PV panel and system component manufacturers and resellers, PV panel purchasers and installers, and renewable electricity providers, including small businesses.

The information received will help GSA develop a procurement strategy, to potentially include a procurement standard for use in future solicitations where the use of PV panels and components are required.

GSA intends to use the information generated from this Request for Information (RFI) in support of the goals expressed in section 203 of Executive Order (E.O.) 14057, Catalyzing Clean Energy Industries and Jobs Through Federal Sustainability (December 8, 2021), as well as the White House Fact Sheet, titled President Biden Takes Bold Executive Action to Spur Domestic Clean Energy Manufacturing (June 6, 2022).

GSA seeks to learn more from industry regarding the use of domestically manufactured PV panels and components in contract types including: Power Purchase Agreements (PPA), Energy Savings Performance Contracts (ESPC), Utility Energy Service Contracts (UESC), solar array development contracts, and other acquisition vehicles depending on future need. This RFI is also being issued in anticipation of future projects that may be funded by the Inflation Reduction Act (IRA) (Pub. L. 117-169). GSA is particularly interested in the impacts of this initiative on underserved or disadvantaged communities.

This RFI is for general fact-gathering purposes. Interested parties will not be reimbursed for any costs related to providing information in response to this RFI. The Government does not intend to award a contract on the basis of this RFI.

Requested Information From Industry

In submitting your response, please number your answers with which question you are answering, for example: Requested Information Specific to Manufacturing 2(a)(i).

For purposes of organizing the data received, please provide the following information in your response:

• What is your company or organization name, point of contact, telephone number, and email address?

• What is the nature of your company or organization?

○ Are you a solar panel or component provider, manufacturer, re-seller, or retailer (for residential, commercial, or utility scale); developer, utility company, or other (specify)?

○ Describe your business in a few sentences, to include how long your company or organization has provided these services.

• What is your company or organization's primary North American Industry Classification System (NAICS) code?

○ The NAICS code for photovoltaic cell manufacturing is 334413, Semiconductor and Related Device Manufacturing. If you operate under a different NAICS code for other elements of this RFI please provide your primary NAICS code.

• With your primary NAICS code in mind, what is your company's size status, is your company a large or small business?

○ As defined by the Small Business Administration, the size standard to qualify as a small business for NAICS code 334413 is fewer than 1,250 employees.

○ What, if any, small business socio-economic categories apply to your business, such as Small Disadvantaged Business, Woman-Owned Small Business, Veteran-Owned Small Business, Service-Disabled Veteran-Owned, or Historically Underutilized Business Zone?

Requested Information Specific to Manufacturing

1. Is your company an established PV panel or component manufacturer (defined for the purposes of the RFI as the panel or component being in commercial production for 2 or more years)?

2. Does your company or organization manufacture PV panels or system components for the arrays domestically?

a. If yes, please provide a brief description to include the place of manufacture and where in the supply chain your product falls, i.e., do you manufacture a component or assemble the final panel system or components?

i. What is your company's production capacity of domestically manufactured solar panels?

ii. Are you anticipating an increase or decrease in production capacity in the next 10-year timeframe? Why or why not?

b. From which countries do you or your suppliers source the majority of the raw materials for the PV panels or components?

i. Please provide the countries of origin for each major component if purchased outside of the U.S.

ii. Please describe current traceability tools and how effective they are.

iii. Has your due diligence in monitoring your supply chain changed as a direct result of the Uyghur Forced Labor Prevention Act (UFLPA)? Is implementation of the UFLPA a help or hindrance to domestic manufacturing?

iv. Do you have capacity to trace and certify that your products meet the component test for manufactured goods of 55% called out in the Infrastructure Investment and Jobs Act (IJA) and 55%, incrementally increasing to 75% over time, for federal procurements?

v. With recent legislative changes, are there now more mechanisms to trace the country of origin for the components? Please describe.

3. Has your company experienced availability, quality, workability, or durability challenges with PV panels and/or components?

a. Have you seen any differences in the availability, quality, workability, or durability between PV panels manufactured foreignly or domestically?

b. Are there good examples of quality assurance and quality control procedures/programs for PV panels or components that you trust?

4. If your company has been in panel/component commercial production for fewer than two years, please disclose which part of the domestic PV supply chain your company will support.

5. It is our understanding that there are primarily two types of panels commercially available: crystalline silicon and tellurium. Is your firm developing or close to commercializing new panel technology outside of these two types?

6. Please provide as many details as you can in response to the questions listed below:

a. What is the rated wattage of your PV panels?

b. What is the efficiency rating of your PV panels?

c. What is the weight of your PV panels?

d. What type of warranty do you offer for your PV panels?

e. What is the product warranty period for your PV panels?

f. What is the power warranty after 25 years of operation?

g. Do you have embodied carbon product declarations (EPDs) for the panels that you produce or sell? If yes, how is this calculated and are shipping logistics included?

h. Do you perceive a difference in efficiency expectations between residential, commercial, and utility-scale PV panels, and if yes what is the difference?

7. What steps would be needed to increase circularity (or recyclability) in the PV manufacturing sector?

a. What are roadblocks to circularity/recyclability in the PV industry and are those barriers alleviated with federal subsidies?

b. Describe your recycling process for PV panels or its components (if any). What technology is needed in order to improve on recycling?

Requested Information Specific to Installers

8. Is your company or organization taking action to source domestically manufactured PV panels and/or components?

a. If yes, what actions are you taking and why are you taking those actions?

9. Other than the price, are there other obstacles to sourcing domestically made PV panels and/or components?

a. Are there obstacles to identifying skilled labor to complete the installations?

10. Has your company or organization experienced availability, quality, workability, or durability challenges with PV panels and/or components?

a. Have you seen any differences between foreign and domestic products for PV panels and system components?

Requested Information Specific to Developers

11. If you are a developer who anticipates construction of new solar generation facilities in the next five years, what barriers can you identify to using domestically manufactured PV panels and/or components?

a. Are there state laws or regulations preventing energy providers from requiring domestically made PV panels and components?

12. What opportunities, if present, would encourage use of domestically manufactured PV panels and/or components for such generation facilities?

a. Is your company aware of any disruptive technologies that could render current PV panels and/or components, or system designs outdated or incompatible with existing systems?

Requested Information on Market Availability

13. What are the technical, economic, logistical, or regulatory obstacles that exist to domestically manufacturing PV panels or purchasing renewable energy as a commodity? Does the IRA resolve any of these obstacles for your company?

14. How will the IRA and potentially more federal opportunities for use of domestically manufactured PV panels or components help you expand or increase your rate of growth? Are there other initiatives or factors that impede or spur growth in this area? How will the IRA impact the purchase of power versus the PV systems themselves?

15. If you are not a manufacturer, to what extent do you acquire PV panels systems or components from domestic sources? Do you expect your purchasing behavior will change as a result of federal subsidies?

Requested Information on Acquisition Practices

16. What would be the likely impacts of the Government requiring in its procurements that solar energy under such contracts be generated using domestically manufactured PV panels or components?

a. What are the risks/downsides?

b. What are the opportunities/upsides?

c. If you are a developer, would such a requirement change your willingness to participate in future federal opportunities?

17. Other than establishing a requirement, what steps could the Government take to use federal acquisition to leverage domestic PV panel or component manufacturing?

18. If the Government were to pursue developing a procurement standard for domestically manufactured PV panels or components, what key elements should be contained in that standard to encourage domestic manufacturing?

19. What components in PV panels would be difficult to source domestically?

a. Do different components in PV panels need different timeframes for being domestically sourced without difficulty?

20. There is an Electronic Product Environmental Assessment Tool (EPEAT) ecolabel for PV panels and inverters. Please share your company's plan/timeline to get your PV panels EPEAT registered.

a. What percentage of the components of your EPEAT registered solar panels do you anticipate would be domestically sourced?

b. How does your company ensure that your solar supply chain does not utilize forced labor? Will your company's supply chain be impacted by the recently passed Uyghur Forced Labor Prevention Act?

c. What steps can the Government take to further protect your supply chain from forced labor concerns?

d. If the EPEAT criteria for PV panels and/or components were updated to address forced labor within the supply chain, what approach would you recommend be taken in the new criteria?

21. If there is anything else that you want the Government to consider in encouraging domestic manufacturing of PV panels and components, please address.

Jeffrey A. Koses,
Senior Procurement Executive, Office of Acquisition Policy, Office of Government-wide Policy, General Services Administration.

[FR Doc. 2022-20138 Filed 9-16-22; 8:45 am]

BILLING CODE 6820-61-P